SMALL BUSINESS ADMINISTRATION

Announcement of Lean for Main Street Training Challenge

AGENCY: U.S. Small Business Administration.

ACTION: Notice.

SUMMARY: The U.S. Small Business Administration (SBA) announces the Lean for Main Street Training Challenge, pursuant to the America Competes Act, to encourage current SBA Women's Business Centers, Small Business Development Centers, and SCORE Chapters—to identify ways of adapting framework established under the National Science Foundation's successful I-Corps™ business assistance program for small businesses and aspiring entrepreneurs that have not had much exposure to those kinds of resources.

DATES: The submission period for entries will begin at 12:00 p.m. EDT, January 11, 2016, and end February 10, 2016, at 11:59 p.m. EDT. SBA anticipates that winners will be announced no later than February 29, 2016.

FOR FURTHER INFORMATION CONTACT: Matthew Stevens, Strategic Initiatives Manager, Office of Entrepreneurial Development, U.S. Small Business Administration, 409 Third Street SW., 6th Floor, Washington, DC 20416, (202) 205-7699, LeanChallenge@sba.gov.

SUPPLEMENTARY INFORMATION:

Competition Details

1. Subject of Challenge Competition: Given the success and growing popularity of the National Science Foundation's I-Corps™ program (see http://www.nsf.gov/news/special_reports/i-corps/about.jsp), the SBA is interested in the potential for using adapted versions of that program as a means to assist a broader array of small businesses and aspiring entrepreneurs operating outside the I-Corps™ program's current focus on technology-based businesses or commercialization concepts. For reference, the I-Corps™ program involves expert business trainers helping teams of scientists and entrepreneurs apply “lean principles”—a collection of practices and concepts for business model analysis—to those scientists' and entrepreneurs' nascent entrepreneurial efforts. Given the SBA's esteem for the success of this program, the SBA has partnered with the National Science Foundation (NSF) to offer the Lean for Main Street Training Challenge to current SBA Women's Business Centers, Small Business Development Centers, and SCORE Chapters (“Contestants”). Contestants selected as winners will participate in the development and deployment of innovative “lean startup” resources that can be delivered to small businesses in sectors or regions that have not had significant exposure or access to these resources. Winning Contestant representatives will participate in an in-person and virtual train-the-trainer program and forum with I-Corps™ national instructors to develop an innovative framework for exposing lean methodology to businesses in traditional sectors. Winners will then implement these newly-developed lean training resources to businesses in their respective communities on a pilot basis and provide SBA with an assessment of their effectiveness.

2. Eligibility Rules for Participating in the Competition: Only current recipients or sub-recipients in good standing of grants and cooperative agreements from SBA under the Women's Business Center, Small Business Development Center (both lead and service centers are eligible), or SCORE programs (“Resource Partners”) are eligible to take part in this competition. To be eligible to win a prize under this Competition, a Contestant:

(a) Shall have registered to participate in the competition under the rules promulgated by SBA;

(b) Shall have complied with all the requirements under this Notice;

(c) In the case of a private entity, shall be incorporated in and maintain a primary place of business in the United States, and

(d) May not be a Federal entity or Federal employee acting within the scope of their employment;

(e) Shall not be an SBA employee working on their applications during assigned duty hours.

3. Registration Process for Contestants: Contestants will submit their application through challenge.gov. Winners will be required to have an account in System for Award Management (SAM) https://www.sam.gov to receive the award.

4. Amount of Prize: Through the Lean for Main Street Training Challenge, the SBA will award up to five cash prizes of $25,000 each. Additionally, scholarships with a value of up to $1,200 each will be issued by the SBA for two representatives of each winning organization to attend a 7 week I-Corps™ in person and virtual train the trainer program. The in person component of the training will take place in Washington, DC March 29 through April 1, 2016 and again May 11 through 14; virtual sessions will take place on April 7, 14, 21, 28, and May 5. On May 14, winners will participate in a forum with I-Corps instructors to discuss and refine their customized lean programs which will then be piloted by the winners.

5. Payment of Prize: The scholarships portion of the prize will be disbursed in the form of two vouchers for the two representatives from each winning organization to attend the I-Corps™ training event in early 2016. The cash prize portion of the award will be disbursed in a series of three payments. The first payment, equal to 60 percent of a winner's total prize amount, will be disbursed upon award once all initial requirements in the Official Rules available at https://www.challenge.gov (see Rules section in the for Lean for Main Street Training Challenge) have been met. The second payment, equal to 20 percent of a winner's total prize amount, will be disbursed after a winner has presented a modified I-Corps™ program to the SBA and Agency staff has deemed that modified program satisfactory. This modified program must be presented within six (6) months of the date of the award unless otherwise specified by the SBA. The remaining 20 percent of the total prize amount will be disbursed after a winner submits a written assessment that includes, but is not limited to, the outcomes and outputs of the pilot implementation of the modified program as measured by the metrics outlined in its proposal, a summary of any lessons learned and best practices, and suggestions for any improvements to the design or implementation of similar competitions in the future. The written assessment must be submitted to SBA no later than 12 months after a winner receives its first prize payment.

6. Selection of Winners: Winners will be selected based upon how well they address the following criteria on their application forms:

• Audience: SBA's Resource Partners interact with a diverse group of small business owners and entrepreneurs. While lean materials aimed towards tech startups are commonly available, entrepreneurs in different industries, with different backgrounds, or from different geographies may find these materials less applicable to their immediate circumstances. In order to be successful, a Contestant should clearly identify the specific audience for which their modified program would be developed. Contestants are free to define their audience according to their own parameters (e.g., Sector, Business Phase (pre-venture, startup, existing businesses) Geography, Historically Disadvantaged or Underserved Status, etc.)

• Adaptation: To kick off the adaptation of the I-Corps™ program, each winner will send two representatives to NSF's I-Corps™ gathering in Washington, DC, where they will work in dedicated groups with I-Corps™ instructors as part of a specialized Train the Trainer program. Applications should outline exactly how representatives intend to benefit from this experience, including any specific knowledge gaps that representatives are looking to fill through their participation. They should also give a clear idea of the demonstrated ability of each representative to adapt and deliver new resources to small businesses. Please note that while SBA is interested in your knowledge and experience with lean methods, preexisting expertise in lean methodology is NOT a requirement for this Competition.

• Implementation: An entrepreneurial development program is only as good as the people it can reach. While the ability to adapt and customize entrepreneurial development resources is clearly important, equally important will be the Contestants' solution to delivering their curriculum to small businesses and aspiring entrepreneurs in their target audience. An application should delineate, as clearly as possible, how the Resource Partner intends to leverage their existing relationships, the curriculum that they will develop, and the funds awarded to bring lean methods into their communities on a pilot basis. Applications should also give a clear idea of how they intend to evaluate the effectiveness of their program, including specific metrics that the Resource Partner will track.

7. Applicable Law: This Competition is being conducted by SBA pursuant to the America Competes Act (15 U.S.C. 3719) and is subject to all applicable federal laws and regulations. By participating in this Competition, each Contestant gives its full and unconditional agreement to the Official Rules and the related administrative decisions described in this notice, which are final and binding in all matters related to the Competition. A Contestant's eligibility for a prize award is contingent upon its fulfilling all requirements identified in this notice and in the Official Rules. Publication of this notice is not an obligation of funds on the part of SBA. SBA reserves the right to modify or cancel this Competition, in whole or in part, at any time prior to the award of prizes.

8. Conflicts of Interest: No individual acting as a judge at any stage of this Competition may have personal or financial interests in, or be an employee, officer, director, or agent of any Contestant or have a familial or financial relationship with a Contestant.

9. Intellectual Property Rights:

(a). All entries submitted in response to this Competition will remain the sole intellectual property of the individuals or organizations that developed them. By registering and entering a submission, each Contestant represents and warrants that it is the sole author and copyright owner of the submission, and that the submission is an original work of the Contestant, or if the submission is a work based on an existing application, that the Contestant has acquired sufficient rights to use and to authorize others to use the submission, and that the submission does not infringe upon any copyright or upon any other third party rights of which the Contestant is aware.

(b). The winning Contestant will, in consideration of the prize to be awarded, grant to SBA an irrevocable, royalty-free, exclusive worldwide license to reproduce, distribute, copy, display, create derivative works, and publicly post, link to, and share the lean training resources or parts thereof that are to be developed as a result of winning this competition or for any official SBA purpose.

10. Publicity Rights: By registering and entering a submission, each Contestant consents to SBA's and its agents' use, in perpetuity, of its name, likeness, photograph, voice, opinions, and/or hometown and state information for promotional or informational purposes through any form of media, worldwide, without further payment or consideration.

11. Liability and Insurance Requirements: By registering and entering a submission, each Contestant agrees to assume any and all risks and waive claims against the Federal Government and its related entities, except in the case of willful misconduct, for any injury, death, damage, or loss of property, revenue, or profits, whether direct, indirect, or consequential, arising from their participation in this Competition, whether the injury, death, damage, or loss arises through negligence or otherwise. By registering and entering a submission, each Contestant further represents and warrants that it possesses sufficient liability insurance or financial resources to cover claims by a third party for death, bodily injury, or property damage or loss resulting from any activity it carries out in connection with its participation in this Competition, or claims by the Federal Government for damage or loss to Government property resulting from such an activity. Competition winners should be prepared to demonstrate proof of insurance or financial responsibility in the event SBA deems it necessary.

12. Record Retention and Disclosure: All submissions and related materials provided to SBA in the course of this Competition automatically become SBA records and cannot be returned. Contestants should identify any confidential commercial information contained in their entries at the time of their submission.

Award Approving Official: Tameka S. Montgomery, Associate Administrator, Office of Entrepreneurial Development, U.S. Small Business Administration, 409 Third Street SW., Washington, DC 20416.

Authority: America Competes Reauthorization Act of 2010, 15 U.S.C. 3719.

Dated: January 5, 2016.
Tameka Montgomery,
Associate Administrator, Office of Entrepreneurial Development.

[FR Doc. 2016-00302 Filed 1-8-16; 8:45 a.m.]

BILLING CODE 8025-01-P